DEPARTMENT OF ENERGY

Federal Energy Regulatory Commission

[Project No. 459-128]

Union Electric Company, dba AmerenUE; Notice of Availability of Final Environmental Assessment

August 8, 2006.

In accordance with the National Environmental Policy Act of 1969 and the Federal Energy Regulatory Commission's (Commission) regulations, 18 CFR part 380 (Order No. 486, 52 FR 47897), the Office of Energy Projects' staff has reviewed the application for new license for the Osage Project, located on the Osage River in south central Missouri, and has prepared a final Environmental Assessment (EA) for the project. In the final EA, Commission staff analyzed the potential environmental effects of relicensing the project and concluded that issuing a new license for the project, with appropriate environmental measures, would not constitute a major Federal action that would significantly affect the quality of the human environment.

A copy of the final EA is available for review in the Public Reference Room or may be viewed on the Commission's Web site at http://www.ferc.gov, using the “eLibrary” link. Enter the docket number, excluding the last three digits in the docket number field to access the document. You may register online at http://www.ferc.gov/docs-filing/esubscription.asp to be notified via e-mail of new filings and issuances related to this or any other pending projects. For assistance, contact FERC Online Support at FERCOnlineSupport@ferc.gov or toll-free at 1-866-208-3676, or for TTY, (202) 502-8659.

Magalie R. Salas,
Secretary.

[FR Doc. E6-13363 Filed 8-15-06; 8:45 am]

BILLING CODE 6717-01-P